DEPARTMENT OF THE INTERIOR

Office of Surface Mining Reclamation and Enforcement

30 CFR Part 920

[MD-055-FOR]

Maryland Regulatory Program

AGENCY: Office of Surface Mining Reclamation and Enforcement (OSM), Interior.

ACTION: Final rule; approval of amendment.

SUMMARY: We are approving an amendment to the Maryland regulatory program (the Maryland program) under the Surface Mining Control and Reclamation Act of 1977 (SMCRA or the Act). The program amendment consists of changes to the Maryland Annotated Code (MAC) to increase the end of month balance cap of the Bond Supplement Reserve (Reserve) within the Bituminous Coal Open-Pit Mining Reclamation Fund. The amendment is intended to improve the ability of the Maryland Department of the Environment to finance reclamation projects by increasing the amounts available in the Reserve.

DATES: Effective Date: June 15, 2007.

FOR FURTHER INFORMATION CONTACT: Mr. George Rieger, Telephone: (717) 782-4849 ext. 11. E-mail: grieger@osmre.gov.

SUPPLEMENTARY INFORMATION:

I. Background on the Maryland Program

II. Submission of the Proposed Amendment

III. OSM's findings

IV. Summary and Disposition of Comments

V. OSM's Decision

VI. Procedural Determinations

I. Background on the Maryland Program

Section 503(a) of the Act permits a State to assume primacy for the regulation of surface coal mining and reclamation operations on non-Federal and non-Indian lands within its borders by demonstrating that its program includes, among other things, “* * * a State law which provides for the regulation of surface coal mining and reclamation operations in accordance with the requirements of the Act * * * and rules and regulations consistent with regulations issued by the Secretary pursuant to the Act.” See 30 U.S.C. 1253(a)(1) and (7). On the basis of these criteria, the Secretary of the Interior conditionally approved the Maryland program on December 1, 1980. You can find background information on the Maryland program, including the Secretary's findings, the disposition of comments, and conditions of approval in the December 1, 1980, Federal Register (45 FR 79431). You can also find later actions concerning Maryland's program and program amendments at 30 CFR 920.12, 920.15, and 920.16.

II. Submission of the Proposed Amendment

By an undated letter received on January 29, 2007 (Administrative Record Number MD-587-00), Maryland sent us an amendment to revise its program under SMCRA (30 U.S.C. 1201 et seq.). The amendment revises MAC provisions to increase the end of month balance cap of the Bond Supplement Reserve within the Bituminous Coal Open-Pit Mining Reclamation Fund. Maryland submitted these proposed amendments on its own initiative to improve the ability of the Maryland Department of the Environment to finance reclamation projects by increasing the amounts available in the Reserve.

In its submittal of this amendment, Maryland stated that this action will improve the ability of the Maryland Department of the Environment to finance reclamation projects by increasing the amounts available in the Reserve. Maryland stated that the amendment also addresses findings and recommendations found in the Actuarial Study approved by OSM in the Federal Register dated May 13, 1998 (63 FR 26451).

The Reserve was established for reclamation purposes when the original bond is not sufficient to reclaim the site for which it was posted in the event of forfeiture. The Reserve receives revenues from two separate surcharges that are assessed for each ton of coal removed by the open-pit or strip method. These funds are used to supplement forfeited bonds to enable the mine site to be reclaimed. If the funds in the Reserve at the end of any month equal or exceed a certain fixed level, or cap, deposits into the Reserve from these surcharges are temporarily stopped. If the funds in the Reserve at the end of any month then drop below a certain fixed level, or floor, deposits into the Reserve from these surcharges are resumed. In this amendment, Maryland proposes to raise both the cap and the floor levels, in order to ensure that more funds are always available for reclamation expenses.

III. OSM's Findings

Following are the findings we made concerning the amendment under SMCRA and the Federal Regulations at 30 CFR 732.15 and 732.17. We are approving the amendment.

1. MAC 15-517(c)

Prior to this amendment, subsection (c) provided as follows:

(c) When the amount of money in the bond supplement reserve equals or exceeds $300,000 at the end of the month, deposits into the reserve of the amounts provided in subsection (b)(1) and (2) of this section shall end temporarily.

Maryland proposed to revise Subsection (c) by increasing the end-of-month balance cap of the Bond Supplement Reserve from $300,000 to $750,000.

As amended, Subsection (c) provides as follows:

(c) When the amount of money in the bond supplement reserve equals or exceeds $750,000 at the end of the month, deposits into the reserve of the amounts provided in subsection (b)(1) and (2) of this section shall end temporarily.

Because the amendment to this provision ensures more revenues are available in the Bond Supplement Reserve, we find that the changes are not inconsistent with the Federal Regulations at 30 CFR 800.11(e), pertaining to the establishment and maintenance of an alternative bonding system, and can be approved.

2. MAC 15-517(d)(1)

Prior to this amendment, subsection (d)(1) provided as follows:

(1) The amount of money in the bond supplement reserve equals or exceeds $300,000 at the end of the month;

Maryland proposed to raise the end-of-month balance cap of the Bond Supplement Reserve from $300,000 to $750,000.

As amended, Subsection (d)(1) provides as follows:

(1) The amount of money in the bond supplement reserve equals or exceeds $750,000 at the end of the month;

Because the amendment to this provision ensures more revenues are available in the Bond Supplement Reserve, we find that the changes are not inconsistent with the Federal Regulations at 30 CFR 800.11(e) and can be approved.

3. MAC 15-517(e)

Prior to this amendment, subsection (e) provided as follows:

(e) At the end of any month when the amount of money in the bond supplement reserve is reduced below $200,000:

Maryland proposed to raise the amount from $200,000 to $500,000 because it believes that the end-of-month balance cap that triggers the resumption of surcharges and deposits needed to be increased as well.

As amended, Subsection (e) provides as follows:

(e) At the end of any month when the amount of money in the bond supplement reserve is reduced below $500,000:

Because the amendment to this provision ensures more revenues are available in the Bond Supplement Reserve, we find that the changes are not inconsistent with the Federal Regulations at 30 CFR 800.11(e) and can be approved.

IV. Summary and Disposition of Comments

Public Comments

We asked for public comments on the amendment (Administrative Record Number MD-587-02), but did not receive any.

Federal Agency Comments

Under 30 CFR 732.17(h)(11)(i) and section 503(b) of SMCRA, we requested comments on the amendment from various Federal agencies with an actual or potential interest in the Maryland program (Administrative Record Number MD-587-01), but did not receive any.

V. OSM's Decision

Based on the above findings, we approve the Maryland amendment that we received on January 29, 2007.

To implement this decision, we are amending the Federal regulations at 30 CFR part 920, which codify decisions concerning the Maryland program. We find that good cause exists under 5 U.S.C. 553(d)(3) to make this final rule effective immediately.

Section 503(a) of SMCRA requires that Maryland's program demonstrate that it has the capability of carrying out the provisions of the Act and meeting its purposes. Making this regulation effective immediately will expedite that process. SMCRA requires consistency of Maryland and Federal standards.

VI. Procedural Determinations

Executive Order 12630—Takings

In accordance with Executive Order 12630, the provisions in the rule, as described in the preamble, do not have significant takings implications; therefore, a takings implication assessment is not required.

Executive Order 12866—Regulatory Planning and Review

This rule is exempt from review by the Office of Management and Budget under Executive Order 12866.

Executive Order 12988—Civil Justice Reform

The Department of the Interior has conducted the reviews required by section 3 of Executive Order 12988 and has determined that this rule meets the applicable standards of subsections (a) and (b) of that section. However, these standards are not applicable to the actual language of State regulatory programs and program amendments because each program is drafted and promulgated by a specific State, not by OSM. Under sections 503 and 505 of SMCRA (30 U.S.C. 1253 and 1255) and the Federal regulations at 30 CFR 730.11, 732.15, and 732.17(h)(10), decisions on proposed State regulatory programs and program amendments submitted by the States must be based solely on a determination of whether the submittal is consistent with SMCRA and its implementing Federal regulations and whether the other requirements of 30 CFR parts 730, 731, and 732 have been met.

Executive Order 13132—Federalism

This rule does not have Federalism implications. SMCRA delineates the roles of the Federal and State governments with regard to the regulation of surface coal mining and reclamation operations. One of the purposes of SMCRA is to “establish a nationwide program to protect society and the environment from the adverse effects of surface coal mining operations.” Section 503(a)(1) of SMCRA requires that State laws regulating surface coal mining and reclamation operations be “in accordance with” the requirements of SMCRA, and section 503(a)(7) requires that State programs contain rules and regulations “consistent with” regulations issued by the Secretary pursuant to SMCRA.

Executive Order 13175—Consultation and Coordination With Indian Tribal Governments

In accordance with Executive Order 13175, we have evaluated the potential effects of this rule on Federally-recognized Indian tribes and have determined that the rule does not have substantial direct effects on one or more Indian tribes, on the relationship between the Federal Government and Indian tribes, or on the distribution of power and responsibilities between the Federal Government and Indian tribes. The basis for this determination is our decision is on a State regulatory program and does not involve a Federal regulation involving Indian lands.

Executive Order 13211—Regulations That Significantly Affect the Supply, Distribution, or Use of Energy

On May 18, 2001, the President issued Executive Order 13211 which requires agencies to prepare a Statement of Energy Effects for a rule that is (1) Considered significant under Executive Order 12866, and (2) likely to have a significant adverse effect on the supply, distribution, or use of energy. Because this rule is exempt from review under Executive Order 12866 and is not expected to have a significant adverse effect on the supply, distribution, or use of energy, a Statement of Energy Effects is not required.

National Environmental Policy Act

This rule does not require an environmental impact statement because section 702(d) of SMCRA (30 U.S.C. 1292(d)) provides that agency decisions on proposed State regulatory program provisions do not constitute major Federal actions within the meaning of section 102(2)(C) of the National Environmental Policy Act (42 U.S.C. 4332(2)(C)).

Paperwork Reduction Act

This rule does not contain information collection requirements that require approval by OMB under the Paperwork Reduction Act (44 U.S.C. 3507 et seq.).

Regulatory Flexibility Act

The Department of the Interior certifies that this rule will not have a significant economic impact on a substantial number of small entities under the Regulatory Flexibility Act (5 U.S.C. 601 et seq.). The State submittal, which is the subject of this rule, is based upon counterpart Federal regulations for which an economic analysis was prepared and certification made that such regulations would not have a significant economic effect upon a substantial number of small entities. In making the determination as to whether this rule would have a significant economic impact, the Department relied upon the data and assumptions for the counterpart Federal regulations.

Small Business Regulatory Enforcement Fairness Act

This rule is not a major rule under 5 U.S.C. 804(2), the Small Business Regulatory Enforcement Fairness Act. This rule: (a) Does not have an annual effect on the economy of $100 million; (b) Will not cause a major increase in costs or prices for consumers, individual industries, Federal, State, or local government agencies, or geographic regions; and (c) Does not have significant adverse effects on competition, employment, investment, productivity, innovation, or the ability of U.S.-based enterprises to compete with foreign-based enterprises. This determination is based upon the analysis performed under various laws and executive orders for the counterpart Federal regulations.

Unfunded Mandates

This rule will not impose an unfunded mandate on State, local, or tribal governments or the private sector of $100 million or more in any given year. This determination is based upon the analysis performed under various laws and executive orders for the counterpart Federal regulations.

List of Subjects in 30 CFR Part 920

Intergovernmental relations, Surface mining, Underground mining.

Dated: May 4, 2007.
Michael K. Robinson,
Acting Regional Director, Appalachian Region.

PART 920—MARYLAND

1. The authority citation for part 920 continues to read as follows:

Authority: 30 U.S.C. 1201 et seq.

2. Section 920.15 is amended in the table by adding a new entry in chronological order by “Date of final publication” to read as follows:

§ 920.15 Approval of Maryland regulatory program amendments.

* * * * *

Original amendment submission date | Date of final publication | Citation/description
* * * * * * *
January 29, 2007 | June 15, 2007 | MAC 15-517(c); 15-517(d)(1); and 15-517(e).

[FR Doc. E7-11610 Filed 6-14-07; 8:45 am]

BILLING CODE 4310-05-P